DEPARTMENT OF TRANSPORTATION

Federal Aviation Administration

14 CFR Part 39

[Docket No. FAA-2005-21341; Directorate Identifier 2003-NM-026-AD; Amendment 39-14231; AD 2005-17-10]

RIN 2120-AA64

Airworthiness Directives; Saab Model SAAB 2000 Airplanes

AGENCY: Federal Aviation Administration (FAA), Department of Transportation (DOT).

ACTION: Final rule.

SUMMARY: The FAA is adopting a new airworthiness directive (AD) for certain Saab Model SAAB 2000 airplanes. This AD requires an inspection for cracking of the fastener holes in the front and rear spars, a modification of the fastener holes of the front and rear spars and the rear spar web, and related investigative/corrective actions if necessary. This AD is prompted by a report of cracking of certain fastener holes in the lower spar cap of the rear spar and in the lower skin at the front spar. We are issuing this AD to prevent cracking of the front and rear spars, which could result in fuel leakage and consequent reduced structural integrity of the wing structure.

DATES: This AD becomes effective September 27, 2005.

The incorporation by reference of a certain publication listed in the AD is approved by the Director of the Federal Register as of September 27, 2005.

ADDRESSES: For service information identified in this AD, contact Saab Aircraft AB, SAAB Aircraft Product Support, S-581.88, Linköping, Sweden.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW, room PL-401, Washington, DC. This docket number is FAA-2005-21341; the directorate identifier for this docket is 2003-NM-026-AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: The FAA proposed to amend 14 CFR part 39 with an AD for certain Saab Model SAAB 2000 airplanes. That action, published in the Federal Register on June 3, 2005 (70 FR 32540), proposed to require an inspection for cracking of the fastener holes in the front and rear spars, a modification of the fastener holes of the front and rear spars and the rear spar web, and related investigative/ corrective actions if necessary.

New Relevant Service Information

Saab has issued Service Bulletin 2000-57-038, Revision 01, dated June 24, 2004. The proposed AD refers to Saab Service Bulletin 2000-57-038, dated December 18, 2002, as the acceptable source of service information for doing the proposed actions. The procedures in Revision 01 of the service bulletin are essentially the same as those in the original issue. Therefore, we have revised paragraphs (f) and (g) of this AD to refer to Revision 01 of the service bulletin as the appropriate source of service information for doing the actions required by those paragraphs. We have also added a new paragraph (h) to this AD (and re-identified subsequent paragraphs accordingly) to give credit for actions done before the effective date of this AD in accordance with the original issue of the service bulletin.

Comments

We provided the public the opportunity to participate in the development of this AD. No comments have been submitted on the proposed AD or on the determination of the cost to the public.

Explanation of Change to Applicability

The FAA has revised the applicability of this AD to identify model designations as published in the most recent type certificate data sheet for the affected models.

Conclusion

We have carefully reviewed the available data, and determined that air safety and the public interest require adopting the AD with the changes described previously. We have determined that these changes will neither increase the economic burden on any operator nor increase the scope of the AD.

Costs of Compliance

This AD affects about 3 airplanes of U.S. registry. The required actions (inspections and modification) will take about 250 work hours per airplane, at an average labor rate of $65 per work hour. Required parts will cost about $8,557 per airplane. Based on these figures, the estimated cost of this AD for U.S. operators is $74,421, or $24,807 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-17-10 SAAB Aircraft AB: Amendment 39-14231. Docket No. FAA-2005-21341; Directorate Identifier 2003-NM-026-AD.

Effective Date

(a) This AD becomes effective September 27, 2005.

Affected ADs

(b) None.

Applicability

(c) This AD applies to certain Saab Model SAAB 2000 airplanes having serial numbers 004 through 063 inclusive, certificated in any category.

Unsafe Condition

(d) This AD was prompted by a report of cracking of certain fastener holes in the lower spar cap of the rear spar and in the lower skin at the front spar. We are issuing this AD to prevent cracking of the front and rear spars, which could result in fuel leakage and consequent reduced structural integrity of the wing structure.

Compliance

(e) You are responsible for having the actions required by this AD performed within the compliance times specified, unless the actions have already been done.

Inspection

(f) Prior to the accumulation of 20,000 total flight cycles, perform non-destructive tests for cracking of the fastener holes in the lower spar cap of the rear spar and in the lower skin at the left-hand and right-hand sides of the front spar, between WS20 and WS83 inclusive; by accomplishing all the actions specified in Parts A, B, and C of the Accomplishment Instructions of Saab Service Bulletin 2000-57-038, Revision 01, dated June 24, 2004. If any cracking is detected, before further flight, repair the cracking according to a method approved by the Manager, International Branch, ANM-116, Transport Airplane Directorate, FAA; or the Luftfartsverket (LFV) (or its delegated agent).

Modification

(g) Prior to the accumulation of 20,000 total flight cycles, modify the fastener holes of the front and rear spars and the rear spar web, including related investigative actions, by accomplishing all the actions specified in Part D of the Accomplishment Instructions of Saab Service Bulletin 2000-57-038, Revision 01, dated June 24, 2004. If ¼-inch fasteners are needed for holes No. 7 and No. 8, before further flight, contact the Manager, International Branch, ANM-116, for further actions, or the LFV (or its delegated agent). If any scratches or other damage is detected on the skin surface or the surface of the front spar, before further flight, repair in accordance with a method approved by the Manager, International Branch, ANM-116, or the LFV (or its delegated agent).

Actions Accomplished Previously

(h) Inspections or modifications accomplished before the effective date of this AD in accordance with the Accomplishment Instructions of Saab Service Bulletin 2000-57-038, dated December 18, 2002, are considered acceptable for compliance with the corresponding actions specified in this AD.

Alternative Methods of Compliance (AMOCs)

(i) The Manager, International Branch, ANM-116, has the authority to approve AMOCs for this AD, if requested in accordance with the procedures found in 14 CFR 39.19.

Material Incorporated by Reference

(j) You must use Saab Service Bulletin 2000-57-038, Revision 01, dated June 24, 2004, to perform the actions that are required by this AD, unless the AD specifies otherwise. The Director of the Federal Register approves the incorporation by reference of this document in accordance with 5 U.S.C. 552(a) and 1 CFR part 51. To get copies of the service information, contact Saab Aircraft AB, SAAB Aircraft Product Support, S-581.88, Linköping, Sweden. To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal-register/cfr/ibr-locations.html.

Issued in Renton, Washington, on August 11, 2005.
Kalene C. Yanamura,
Acting Manager, Transport Airplane Directorate, Aircraft Certification Service.

[FR Doc. 05-16456 Filed 8-22-05; 8:45 am]

BILLING CODE 4910-13-P